SECURITIES AND EXCHANGE COMMISSION

Proposed Collection; Comment Request

Upon Written Request, Copies Available From: Securities and Exchange Commission, Office of FOIA Services, 100 F Street NE., Washington, DC 20549-2736.

Extension:

Rule 17g-1 and Form NRSRO, SEC File No. 270-563, OMB Control No. 3235-0625.

Notice is hereby given that pursuant to the Paperwork Reduction Act of 1995 (44 U.S.C. 3501 et seq.), the Securities and Exchange Commission (“Commission”) has submitted to the Office of Management and Budget (“OMB”) a request for approval of extension of the previously approved collection of information provided for in Rule 17g-1, Form NRSRO and Instructions to Form NRSRO under the Securities Exchange Act of 1934 (15 U.S.C. 78a et seq.).¹

¹ See 17 CFR 240.17g-1 and 17 CFR 249b.300.

Rule 17g-1, Form NRSRO and the Instructions to Form NRSRO contain certain recordkeeping and disclosure requirements for NRSROs. Currently, there are 10 credit rating agencies registered as NRSROs with the Commission. Based on staff experience and comments received during the 60-day comment period soliciting comments on this collection of information, the Commission estimates that the revised ongoing annual burden for respondents to comply with Rule 17g-1 and Form NRSRO is 2,750 hours. In addition, the Commission estimates an industry-wide annual external cost to NRSROs of $4,000 to comply with the requirements.

The Commission may not conduct or sponsor a collection of information unless it displays a currently valid OMB control number. No person shall be subject to any penalty for failing to comply with a collection of information subject to the PRA that does not display a valid OMB control number.

Background documentation for this information collection may be viewed at the following Web site: www.reginfo.gov. Comments should be directed to: (i) Desk Officer for the Securities and Exchange Commission, Office of Information and Regulatory Affairs, Office of Management and Budget, Room 10102, New Executive Office Building, Washington, DC 20503, or by sending an email to: Shagufta_Ahmed@omb.eop.gov; and (ii) Pamela Dyson, Director/Chief Information Officer, Securities and Exchange Commission, c/o Remi Pavlik-Simon, 100 F St NE., Washington, DC 20549 or send an email to: PRA_Mailbox@sec.gov. Comments must be submitted to OMB within 30 days of this notice.

Dated: September 27, 2017.
Eduardo A. Aleman,
Assistant Secretary.

[FR Doc. 2017-21193 Filed 10-2-17; 8:45 am]

BILLING CODE 8011-01-P